INTERNATIONAL TRADE COMMISSION

[Investigation No. 731-TA-1023 (Final)]

Certain Ceramic Station Post Insulators from Japan

AGENCY: United States International Trade Commission.

ACTION: Revised schedule for the subject investigation.

EFFECTIVE DATE: September 17, 2003.

FOR FURTHER INFORMATION CONTACT: John Cutchin (202-205-3396), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On July 21, 2003, the Commission established a schedule for the conduct of the final phase of the subject investigation (68 FR 43162). The Commission is changing its hearing date and subsequently revising its schedule.

The Commission's new schedule for the investigation is as follows: Requests to appear at the hearing must be filed with the Secretary to the Commission not later than October 20, 2003; the prehearing conference will be held at the U.S. International Trade Commission Building at 9:30 a.m. on October 23, 2003; the prehearing staff report will be placed in the nonpublic record on October 15, 2003; the deadline for filing prehearing briefs is October 22, 2003; the hearing will be held at the U.S. International Trade Commission Building at 9:30 a.m. on October 29, 2003; and the deadline for filing posthearing briefs and written statements is November 5, 2003.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: September 22, 2003.
Marilyn R. Abbott,
Secretary to the Commission.

[FR Doc. 03-24337 Filed 9-25-03; 8:45 am]

BILLING CODE 7020-02-P